ENVIRONMENTAL PROTECTION AGENCY

[ER-FRL-6689-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20060514, ERP No. D-NPS-K65324-CA, Big Lagoon Wetland and Creek Restoration Project, To Restore a Functional, Self-Sustaining Ecosystem, including Wetland, Riparian, and Aquatic Components, Golden Gate National Area, Muir Beach, Marin County, CA.

Summary: EPA supports the proposed project goals to restore ecosystem functions and values and does not object to this project. Rating LO.

EIS No. 20070151, ERP No. D-BLM-K05064-NV, White Pine Energy Station Project, Construction and Operation, Coal-fired Electric Power Generating Plant, White Pine County, NV.

Summary: EPA expressed environmental objections because of potential adverse impacts to water quality, including wetlands, and requested for additional information to determine the least environmentally damaging practicable alternative. In addition, EPA requests information about groundwater withdrawal, air quality, potential mercury emissions, and mitigation. Rating EO2.

EIS No. 20070153, ERP No. D-BLM-G65105-NM, Socorro Resource Management Plan Revision, Implementation, Socorro and Catron Counties, NM.

Summary: EPA does not object to the proposed action. Rating LO.

EIS No. 20070196, ERP No. D-AFS-L05240-AK, Angoon Hydroelectric Project, Construction and Operation, Special-Use-Authorization, Thayer Creek, Admiralty Island National Monument, Tongass National Forest, AK.

Summary: EPA expressed environmental objections because of the potential for adverse impacts to water quality and aquatic resources, including the potential to exceed water quality standards, and the lack of a detailed cumulative impacts analysis. The Final EIS should provide additional information regarding environmental impacts and mitigation. Rating EO2.

EIS No. 20070197, ERP No. DR-AFS-K65303-CA, Phoenix Project, Proposes to Use a Combination of Contract and Forest Service Crew to Treat Poor Forest Health and High Fire Hazard Conditions, Develop a Network Defensible Fuel Profile Zones (DFPZs), Sierraville Ranger District, Tahoe National Forest, Sierra and Nevada Counties, CA.

Summary: EPA expressed environmental concerns about impacts to watershed resources and recommended coordination with the California Regional Water Quality Control Boards, adoption of Alternative 4, and rapid implementation of road improvements. Rating EC2.

Final EISs

EIS No. 20070094, ERP No. F-COE-K59006-CA, Cajon Third Main Track, Construction from Summit to Keenbrook, Special Use Permit and U.S. Army COE 404 Permit, San Bernardino County, CA.

Summary: EPA continues to have environmental concerns about air quality and aquatic resources impacts.

EIS No. 20070204, ERP No. F-FRC-K05062-CA, Oroville Facilities Project, Issuing a New Federal License to Continue Hydroelectric Power (FERC No. 2100), Feather River, Sierra Nevada, Butte County, CA.

Summary: No formal comment letter was sent to the preparing agency.

EIS No. 20070237, ERP No. F-BLM-K65308-00, Surprise Field Office Project, Resource Management Plan, Implementation, Cedarville; Modoc and Lassen, CA and Washoe and Humboldt Counties, NV.

Summary: EPA continues to have environmental concerns about water quality, soil condition, and rangeland habitat. EPA requested that BLM focus on relieving grazing pressure in Category 1 rangelands until these areas improve. EPA also requested the closure of OHV route segments adjacent to waters to improve soil conditions, habitat, and water quality.

EIS No. 20070244, ERP No. F-FRC-K03029-00, North Baja Pipeline Expansion Project, Docket Nos. CP06-61-000 and CP01-23-000, Construction and Operation a Natural Gas Pipeline System, Land Use Plan Amendment, Right-of-Way Grant, Temporary Use Permits and U.S. Army COE Section 10 and 404 Permits, La Paz County, AZ and Riverside and Imperial Counties, CA.

Summary: EPA continues to have environmental concerns about the scope of the air quality analysis, indirect impacts on air quality, water resources impacts, and lack of mitigation for impacts on air quality and water resources.

EIS No. 20070258, ERP No. F-COE-F09803-MN, Minnesota Steel Project, Construction and Operation of an Open Pit Taconite Mine Facilities, Concentrator, Pellet Plant, Direct Reduced Iron Plant and Steel Mill Project, located west of Nashwauk, Itasca County, MN.

Summary: While some of EPA's previous concerns have been resolved, EPA continues to have environmental concerns about wetland mitigation (in particular, in-kind replacement and mitigation ratios).

Dated: July 30, 2007.
Robert W. Hargrove,
Director, NEPA Compliance Division, Office of Federal Activities.

[FR Doc. E7-15116 Filed 8-2-07; 8:45 am]

BILLING CODE 6560-50-P